DEPARTMENT OF AGRICULTURE

Commodity Credit Corporation

7 CFR Part 1437

RIN 0560-AG20

Noninsured Crop Disaster Assistance Program

AGENCY: Commodity Credit Corporation and Farm Service Agency, USDA

ACTION: Final rule; correction.

SUMMARY: This document corrects the final rule published on March 17, 2006, amending the regulations for the Noninsured Crop Disaster Assistance Program. A correction is needed to correct an amendatory instruction that inadvertently omitted several references.

DATES: Effective Date: March 17, 2006.

FOR FURTHER INFORMATION CONTACT: Tom Witzig, Director, Regulatory Review Group, Economic and Policy Analysis Staff, Farm Service Agency (FSA), United States Department of Agriculture (USDA), Stop 0572, 1400 Independence Ave., SW., Washington, DC 20250-0572. Telephone: (202) 205-5851; e-mail: tom.witzig@wdc.usda.gov. Persons with disabilities who require alternative means for communication (Braille, large print, audio tape, etc.) should contact the USDA Target Center at (202) 720-2600 (voice and TDD).

SUPPLEMENTARY INFORMATION:

Background

This rule corrects the final rule published in the Federal Register on March 17, 2006 (71 FR 13737) that amended the regulations for the Noninsured Crop Disaster Assistance Program. In the final rule, the instruction revising section 1437.102 inadvertently omitted paragraphs (c), (d) and (e). However, those revised paragraphs were correctly published in the regulatory text. This correction is needed to correct the instruction to specifically state that the paragraphs are in fact to be revised as published.

List of Subjects in 7 CFR Part 1437

Crop insurance, Disaster assistance, Nursery stock, Plants.

Accordingly, the final rule published March 17, 2006 (71 FR 13737) is corrected as follows:

PART 1437—NONINSURED CROP DISASTER ASSISTANCE PROGRAM

1. The authority citation continues to read as follows:

Authority: 15 U.S.C. 714 et seq.; and 7 U.S.C. 7333.

2. In the document published March 17, 2006 (FR Doc. 06-2548), on page 13744, in the second column, correct amendatory instruction 17a to read “a. Revising paragraphs (a), (b) introductory text, (b)(1), (c), (d) and (e);”

Signed in Washington, DC, on April 12, 2006.
Thomas B. Hofeller,
Acting Executive Vice President, Commodity Credit Corporation.

[FR Doc. 06-3670 Filed 4-17-06; 8:45 am]

BILLING CODE 3410-05-P